ENVIRONMENTAL PROTECTION AGENCY

[EPA-HQ-OECA-2012-0502; FRL-9993-23-OMS]

Information Collection Request Submitted to OMB for Review and Approval; Comment Request; NSPS for Hospital/Medical/Infectious Waste Incinerators (Renewal)

AGENCY: Environmental Protection Agency (EPA).

ACTION: Notice.

SUMMARY: The Environmental Protection Agency (EPA) has submitted an information collection request (ICR), NSPS for Hospital/Medical/Infectious Waste Incinerators (EPA ICR Number 1730.11, OMB Control Number 2060-0363), to the Office of Management and Budget (OMB) for review and approval in accordance with the Paperwork Reduction Act. This is a proposed extension of the ICR, which is currently approved through May 31, 2019. Public comments were previously requested via the Federal Register on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 21, 2019.

ADDRESSES: Submit your comments, referencing Docket ID Number EPA-HQ-OECA-2012-0502, to: (1) EPA online using www.regulations.gov (our preferred method), by email to docket.oeca@epa.gov, or by mail to: EPA Docket Center, Environmental Protection Agency, Mail Code 28221T, 1200 Pennsylvania Ave. NW, Washington, DC 20460: and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The New Source Performance Standards (NSPS) for Hospital/Medical/Infectious Waste Incinerators (40 CFR part 60, subpart Ec) were proposed on February 27, 1995, promulgated on September 15, 1997, and amended on both October 6, 2009, and February 27, 2014. The original standards applied to either owners or operators of Hospital/Medical/Infectious Waste Incinerators (HMIWI) for which construction commenced after June 20, 1996, or for which modification commenced after March 16, 1998, but no later than April 6, 2010. Sources subject to the original standards are now covered under the revised Emission Guidelines for HMIWI at 40 CFR part 60, subpart Ce. This information request covers the reporting and recordkeeping requirements associated with the revised NSPS, which apply to new facilities only. New facilities include those that commenced construction after December 1, 2008 or commenced modification after April 6, 2010. This information is being collected to assure compliance with 40 CFR part 60, subpart Ec.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form numbers: None.

Respondents/affected entities: Hospital/medical/infectious waste incinerators.

Respondent's obligation to respond: Mandatory (40 CFR part 60, subpart Ec).

Estimated number of respondents: 11 (total).

Frequency of response: Initially, semiannually and annually.

Total estimated burden: 7,410 hours (per year). Burden is defined at 5 CFR 1320.3(b).

Total estimated cost: $1,360,000 (per year), which includes $519,000 in annualized capital/startup and/or operation & maintenance costs.

Changes in the estimates: There is an increase in the total estimated respondent burden compared with the ICR currently-approved by OMB. This is due to an increase in the estimated number of sources subject to the regulations and is not caused by program changes. We estimate the industry will continue to grow at the rate of one new source per year. This results in increases in the respondent labor hours, number of responses, and capital and O&M costs.

Courtney Kerwin,
Director, Regulatory Support Division.

[FR Doc. 2019-10682 Filed 5-21-19; 8:45 am]

BILLING CODE 6560-50-P